DEPARTMENT OF TRANSPORTATION

Federal Aviation Administration

Agency Information Collection Activities: Requests for Comments; Clearance of Renewed Approval of Information Collection: New England Region Aviation Expo Database

AGENCY: Federal Aviation Administration (FAA), DOT.

ACTION: Notice and request for comments.

SUMMARY: In accordance with the Paperwork Reduction Act of 1995, FAA invites public comments about our intention to request the Office of Management and Budget (OMB) approval to renew an information collection. The New England Region Aviation Expo database performs conference registration and helps plan the logistics and non-pilot courses for the expo.

DATES: Written comments should be submitted by November 22, 2011.

FOR FURTHER INFORMATION CONTACT: Carla Scott on (202) 385-4293, or by e-mail at: Carla.Scott@faa.gov.

SUPPLEMENTARY INFORMATION: OMB Control Number: 2120-0738.

Title: New England Region Aviation Expo Database.

Form Numbers: There are no FAA forms associated with this collection.

Type of Review: Renewal of an information collection.

Background: The data will be used by a collaboration of volunteers from different Lines of Business within the FAA to form a committee. The committee members consist of Regions and Center (ARC), Airports (ARP), Air Traffic Organization (ATO), and Aviation Safety (AVS). The committee members will use the data to help plan the courses and expo itself. The New England Region Aviation Expo database performs conference registration and helps plan logistics and non-pilot courses.

Respondents: Approximately 500 participants.

Frequency: Information is collected once annually.

Estimated Average Burden per Response: 15 minutes.

Estimated Total Annual Burden: 2 hours.

ADDRESSES: Send comments to the FAA at the following address: Ms. Carla Scott, Room 336, Federal Aviation Administration, AES-300, 950 L'Enfant Plaza SW., Washington, DC 20024.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on September 19, 2011.
Carla Scott,
FAA Information Collection Clearance Officer.

[FR Doc. 2011-24457 Filed 9-22-11; 8:45 am]

BILLING CODE 4910-13-P